INTERNATIONAL TRADE COMMISSION

[Investigation Nos. AA1921-197 (Second Review); 701-TA-319, 320, 325-327, 348 and 350 (Second Review); and 731-TA-573, 574, 576, 578, 582-587, 612, and 614-618 (Second Review)]

Certain Carbon Steel Products From Australia, Belgium, Brazil, Canada, Finland, France, Germany, Japan, Korea, Mexico, Poland, Romania, Spain, Sweden, Taiwan, and the United Kingdom

Determination

On the basis of the record ¹ developed in the subject five-year reviews, the United States International Trade Commission (Commission) determines, pursuant to section 751(c) of the Tariff Act of 1930 (19 U.S.C. 1675(c)) (the Act), that revocation of the antidumping duty orders on cut-to-length carbon steel plate from Belgium, Brazil, Finland, Germany, Mexico, Poland, Romania, Spain, Sweden, and the United Kingdom, and the antidumping finding on cut-to-length carbon steel plate from Taiwan, as well as revocation of countervailing duty orders on cut-to-length carbon steel plate from Belgium, Brazil, Mexico, Spain, and Sweden, would not be likely to lead to continuation or recurrence of material injury to an industry in the United States within a reasonably foreseeable time.

¹ The record is defined in § 207.2(f) of the Commission's Rules of Practice and Procedure (19 CFR 207.2(f)).

The Commission further determines that revocation of the antidumping duty orders on corrosion-resistant steel from Germany and Korea and the countervailing duty order on corrosion-resistant steel from Korea would be likely to lead to continuation or recurrence of material injury to an industry in the United States within a reasonably foreseeable time. Finally, the Commission determines that revocation of the antidumping duty orders on corrosion-resistant steel from Australia, Canada, France, and Japan, as well as the countervailing duty order on corrosion-resistant steel from France, would not be likely to lead to continuation or recurrence of material injury to an industry in the United States within a reasonably foreseeable time.²

² Commissioners Charlotte R. Lane and Stephen Koplan dissenting with respect to corrosion-resistant steel from Australia, Canada, France, and Japan.

Background

The Commission instituted these reviews on November 1, 2005 (70 FR 62324, October 31, 2005), and determined on February 6, 2006, that it would conduct full reviews (70 FR 8874, February 21, 2006). Notice of the scheduling of the Commission's reviews and of public hearings to be held in connection therewith was given by posting copies of the notice in the Office of the Secretary, U.S. International Trade Commission, Washington, DC, and by publishing the notice in the Federal Register on March 30, 2006 (71 FR 16178). The hearings were held in Washington, DC, on October 17 and 19, 2006, and all persons who requested the opportunity were permitted to appear in person or by counsel.

The Commission transmitted its determinations in these reviews to the Secretary of Commerce on January 25, 2007. The views of the Commission are contained in USITC Publication 3899 (January 2007), entitled Certain Carbon Steel Products from Australia, Belgium, Brazil, Canada, Finland, France, Germany, Japan, Korea, Mexico, Poland, Romania, Spain, Sweden, Taiwan, and the United Kingdom: Investigation Nos. AA1921-197 (Second Review); 701-TA-319, 320, 325-327, 348, and 350 (Second Review); and 731-TA-573, 574, 576, 578, 582-587, 612, and 614-618 (Second Review).

By order of the Commission.
Issued: January 25, 2007.
Marilyn R. Abbott,
Secretary to the Commission.

[FR Doc. E7-1560 Filed 1-30-07; 8:45 am]

BILLING CODE 7020-02-P